DEPARTMENT OF COMMERCE

International Trade Administration

[A-570-106]

Wooden Cabinets and Vanities and Components Thereof From the People's Republic of China: Initiation of Less-Than-Fair-Value Investigation

AGENCY: Enforcement and Compliance, International Trade Administration, Department of Commerce.

DATES: Applicable March 26, 2019.

FOR FURTHER INFORMATION CONTACT: Amanda Brings at (202) 482-3927 or Rachel Greenberg at (202) 482-0652, AD/CVD Operations, Office V, Enforcement and Compliance, International Trade Administration, U.S. Department of Commerce, 1401 Constitution Avenue NW, Washington, DC 20230.

SUPPLEMENTARY INFORMATION:

The Petition

On March 6, 2019, the U.S. Department of Commerce (Commerce) received an antidumping duty (AD) Petition concerning imports of wooden cabinets and vanities and components thereof (wooden cabinets and vanities) from the People's Republic of China (China), filed in proper form on behalf of the American Kitchen Cabinet Alliance (the petitioner).¹ The AD Petition was accompanied by a countervailing duty (CVD) Petition concerning imports of wooden cabinets and vanities from China.

¹ See Petitioner's Letter, “Petitions for the Imposition of Antidumping and Countervailing Duties on Wooden Cabinets and Vanities from the People's Republic of China,” dated March 6, 2019 (the Petition); see also Memorandum, “Phone Call with Counsel to the Petitioner,” dated March 26, 2019.

Between March 11 and 20, 2019, Commerce requested supplemental information pertaining to certain aspects of the Petition.² The petitioner filed responses to these requests between March 12 and 22, 2019.³

² See Commerce's Letters, “Re: Petitions for the Imposition of Antidumping and Countervailing Duties on Imports of Wooden Cabinets and Vanities from the People's Republic of China: Supplemental Questions,” dated March 11, 2019 (General Issues Supplemental Questionnaire) and “Re: Petitions for the Imposition of Antidumping and Countervailing Duties on Imports of Wooden Cabinets and Vanities from the People's Republic of China: Supplemental Questions,” dated March 11, 2019 (AD Supplemental Questionnaire). See also Memorandum, “Phone Call with Counsel to the Petitioner,” dated March 18, 2019 (March 18, 2019 Memorandum) and Memorandum, “Phone Call with U.S. Customs and Border Protection Officials and Counsel to the Petitioner,” dated March 20, 2019 (March 20, 2019 Memorandum).

³ See Petitioner's Letter, “Wooden Cabinets and Vanities from the People's Republic of China: Petitioner's Responses to Supplemental Questions Regarding Petition Volume I Injury,” dated March 12, 2019 (General Issues Supplement); Petitioner's Letter, “Wooden Cabinets and Vanities from the People's Republic of China: Petitioner's Responses to Supplemental Questions Regarding Petition Volume II China AD,” dated March 12, 2019 (AD Supplement); Petitioner's Letter, “Wooden Cabinets and Vanities from the People's Republic of China: Second Supplemental Responses—Volume I Injury,” dated March 20, 2019 (Second General Issues Supplement); Petitioner's Letter, “Wooden Cabinets and Vanities from the People's Republic of China: Second Supplemental Responses—Volume II Injury,” dated March 20, 2019 (Second AD Supplement); and Petitioner's Letter, “Wooden Cabinets and Vanities from the People's Republic of China: Petitioner's Response to Department of Commerce's March 20, 2019 Memorandum,” dated March 22, 2019 (Scope Clarification).

In accordance with section 732(b) of the Tariff Act of 1930, as amended (the Act), the petitioner alleges that imports of wooden cabinets and vanities from China are being, or are likely to be, sold in the United States at less-than-fair value (LTFV) within the meaning of section 731 of the Act, and that such imports are materially injuring, or threatening material injury to, the domestic industry producing wooden cabinets and vanities in the United States. Consistent with section 732(b)(1) of the Act, the Petition is accompanied by information reasonably available to the petitioner supporting its allegations.

Commerce finds that the petitioner filed this Petition on behalf of the domestic industry because the petitioner is an interested party as defined in section 771(9)(E) of the Act. Commerce also finds that the petitioner demonstrated sufficient industry support with respect to the initiation of the requested AD investigation.⁴

⁴ See “Antidumping Duty Investigation Initiation Checklist: Wooden Cabinets and Vanities from the People's Republic of China,” (AD Initiation Checklist). This checklist is dated concurrently with, and hereby adopted by, this notice and on file electronically via ACCESS. Access to documents filed via ACCESS is also available in the Central Records Unit, Room B8024 of the main Department of Commerce building.

Period of Investigation

Because the Petition was filed on March 6, 2019, the period of investigation (POI) is July 1, 2018, through December 31, 2018.

Scope of the Investigation

The merchandise covered by this investigation consists of wooden cabinets and vanities from China. For a full description of the scope of this investigation, see the Appendix to this notice.

Comments on Scope of the Investigation

During our review of the Petition, we contacted the petitioner regarding the proposed scope to ensure that the scope language in the Petition is an accurate reflection of the products for which the domestic industry is seeking relief.⁵ As a result, the scope of the Petition was modified to clarify the description of the merchandise covered by the Petition. The description of the merchandise covered by this investigation, as described in the Appendix to this notice, reflects these clarifications.

⁵ See General Issues Supplement; see also March 18, 2019 Memorandum, March 20, 2019 Memorandum, and Scope Clarification; see also Memorandum, “Phone Call with Counsel to the Petitioner,” dated March 21, 2019.

As discussed in the Preamble to Commerce's regulations, we are setting aside a period for interested parties to raise issues regarding product coverage (scope).⁶ Commerce will consider all comments received from interested parties and, if necessary, will consult with interested parties prior to the issuance of the preliminary determination. If scope comments include factual information,⁷ all such factual information should be limited to public information. To facilitate preparation of its questionnaires, Commerce requests that all interested parties submit scope comments by 5:00 p.m. Eastern Time (ET) on April 15, 2019, which is 20 calendar days from the signature date of this notice. Any rebuttal comments, which may include factual information, must be filed by 5:00 p.m. ET on April 25, 2019, which is 10 calendar days from the initial comment deadline.⁸

⁶ See Antidumping Duties; Countervailing Duties, 62 FR 27296, 27323 (May 19, 1997).

⁷ See 19 CFR 351.102(b)(21) (defining “factual information”).

⁸ See 19 CFR 351.303(b).

Commerce requests that any factual information the parties consider relevant to the scope of the investigation be submitted during this time period. However, if a party subsequently finds that additional factual information pertaining to the scope of the investigation may be relevant, the party may contact Commerce and request permission to submit the additional information. All such comments must also be filed on the record of the concurrent CVD investigation.

Filing Requirements

All submissions to Commerce must be filed electronically using Enforcement and Compliance's Antidumping Duty and Countervailing Duty Centralized Electronic Service System (ACCESS).⁹ An electronically filed document must be received successfully in its entirety by the time and date it is due. Documents exempted from the electronic submission requirements must be filed manually (i.e., in paper form) with Enforcement and Compliance's APO/Dockets Unit, Room 18022, U.S. Department of Commerce, 1401 Constitution Avenue NW, Washington, DC 20230, and stamped with the date and time of receipt by the applicable deadlines.

⁹ See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on help using ACCESS can be found at https://access.trade.gov/help.aspx and a handbook can be found at https://access.trade.gov/help/Handbook%20on%20Electronic%20Filling%20Procedures.pdf.

Comments on Product Characteristics for AD Questionnaires

Commerce is providing interested parties an opportunity to comment on the appropriate physical characteristics of wooden cabinets and vanities to be reported in response to Commerce's AD questionnaire. This information will be used to identify the key physical characteristics of the subject merchandise in order to report the relevant factors of production (FOPs) accurately, as well as to develop appropriate product-comparison criteria.

Interested parties may provide any information or comments that they feel are relevant to the development of an accurate list of physical characteristics. In order to consider the suggestions of interested parties in developing and issuing the AD questionnaire, all comments must be filed by 5:00 p.m. ET on April 15, 2019, which is 20 calendar days from the signature date of this notice.¹⁰ Any rebuttal comments must be filed by 5:00 p.m. ET on April 25, 2019. All comments and submissions to Commerce must be filed electronically using ACCESS, as explained above, on the record of this AD investigation.

¹⁰ See 19 CFR 351.303(b).

Determination of Industry Support for the Petition

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹¹ they do so for different purposes and pursuant to a separate and distinct authority. In addition, Commerce's determination is subject to limitations of time and information. Although this may result in different definitions of the like product, such differences do not render the decision of either agency contrary to law.¹²

¹¹ See section 771(10) of the Act.

¹² See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the Petition.¹³ Based on our analysis of the information submitted on the record, we have determined that wooden cabinets and vanities, as defined in the scope, constitute a single domestic like product, and we have analyzed industry support in terms of that domestic like product.¹⁴

¹³ See Volume I of the Petition, at 18-20; see also General Issues Supplement, at 6-7.

¹⁴ For a discussion of the domestic like product analysis as applied to this case and information regarding industry support, see AD Initiation Checklist, at Attachment II, Analysis of Industry Support for the Antidumping and Countervailing Duty Petitions Covering Wooden Cabinets and Vanities from the People's Republic of China (Attachment II).

In determining whether the petitioner has standing under section 732(c)(4)(A) of the Act, we considered the industry support data contained in the Petition with reference to the domestic like product as defined in the “Scope of the Investigation,” in the Appendix to this notice. To establish industry support, the petitioner provided 2018 shipments of the domestic like product for the U.S. producers that support the Petition.¹⁵ The petitioner estimated the production of the domestic like product for the entire domestic industry based on shipment value data, because production quantity data for the entire domestic industry are not available, and shipments are a close approximation of production in the wooden cabinets and vanities industry.¹⁶ The petitioner compared the shipments of the companies supporting the Petition to the estimated total 2018 shipments of the domestic like product for the entire domestic industry.¹⁷ We relied on data provided by the petitioner for purposes of measuring industry support.¹⁸

¹⁵ See Volume I of the Petition, at 2-4 and Exhibits I-3, I-5, and I-7; see also General Issues Supplement, at 10-14 and Exhibits I-Supp-5, I-Supp-8 and I-Supp-12.

¹⁶ See Volume I of the Petition at 3 and Exhibits I-3, I-4 and I-15; see also General Issues Supplement, at 9.

¹⁷ See General Issues Supplement, at 10, 13, and 14.

¹⁸ See Volume I of the Petition, at 2-4 and Exhibits I-3, I-4, I-5, and I-7; see also General Issues Supplement, at 9-14 and Exhibits I-Supp-5, I-Supp-8, I-Supp-10, I-Supp-11, and I-Supp-12. For further discussion, see AD Initiation Checklist, at Attachment II.

On March 20, 2019, we received comments on industry support from American Home Furnishings Alliance (AHFA), an alliance representing the U.S. residential furniture industry, and Fabuwood Cabinetry Corp. (Fabuwood), a U.S. importer.¹⁹ On March 22, 2019, we received industry support comments from Huisen Furniture Longnan Co. Ltd. (Huisen), a Chinese producer and exporter of living room floor-standing furniture, and Kimball Hospitality Inc. (Kimball), a U.S. producer and importer of hospitality furniture.²⁰ The petitioner responded to the industry support comments from AHFA, Fabuwood, Huisen, and Kimball on March 25, 2019.²¹

¹⁹ See AHFA's Letter, “Wooden Cabinets and Vanities from the People's Republic of China: Comments on Industry Support,” dated March 20, 2019 (AHFA's Letter). See Fabuwood's Letter, “Wooden Cabinets and Vanities from the People's Republic of China: Request to Dismiss Petitions or Otherwise Postpone Initiation,” dated March 20, 2019 (Fabuwood's Letter).

²⁰ See Huisen's Letter, “Wooden Cabinets and Vanities from the People's Republic of China: Comments on Industry Support,” dated March 22, 2019 (Huisen's Letter).

²¹ See Petitioner's Letter, “Wooden, Cabinets and Vanities from the People's Republic of China: Petitioners Response to Request to Various Parties' Requests to Dismiss or Postpone,” dated March 25, 2019 (Petitioner's Letter).

Our review of the data provided in the Petition, the General Issues Supplement, the Petitioner's Letter, and other information readily available to Commerce indicates that the petitioner has established industry support for the Petition.²² First, the Petition established support from domestic producers (or workers) accounting for more than 50 percent of the total production of the domestic like product and, as such, Commerce is not required to take further action in order to evaluate industry support (e.g., polling).²³ Second, the domestic producers (or workers) have met the statutory criteria for industry support under section 732(c)(4)(A)(i) of the Act because the domestic producers (or workers) who support the Petition account for at least 25 percent of the total production of the domestic like product.²⁴ Finally, the domestic producers (or workers) have met the statutory criteria for industry support under section 732(c)(4)(A)(ii) of the Act because the domestic producers (or workers) who support the Petition account for more than 50 percent of the production of the domestic like product produced by that portion of the industry expressing support for, or opposition to, the Petition.²⁵ Accordingly, Commerce determines that the Petition was filed on behalf of the domestic industry within the meaning of section 732(b)(1) of the Act.

²² See AD Initiation Checklist, at Attachment II.

²³ See section 732(c)(4)(D) of the Act; see also AD Initiation Checklist, at Attachment II.

²⁴ See AD Initiation Checklist, at Attachment II.

²⁵ Id.

Allegations and Evidence of Material Injury and Causation

The petitioner alleges that the U.S. industry producing the domestic like product is being materially injured, or is threatened with material injury, by reason of the imports of the subject merchandise sold at LTFV. In addition, the petitioner alleges that subject imports exceed the negligibility threshold provided for under section 771(24)(A) of the Act.²⁶

²⁶ See General Issues Supplement, at 15-16 and Exhibits I-Supp-10 and I-Supp-13.

The petitioner contends that the industry's injured condition is illustrated by a significant and increasing volume of subject imports; reduced market share; underselling and price depression or suppression; lost sales and revenues; closure of manufacturing facilities and hindered planned expansion efforts due to market conditions caused by subject imports; a decline in the domestic industry's U.S. production, capacity utilization, commercial shipments, employment, and financial performance; and the magnitude of the alleged dumping margins.²⁷ We have assessed the allegations and supporting evidence regarding material injury, threat of material injury, causation, as well as negligibility, and we have determined that these allegations are properly supported by adequate evidence, and meet the statutory requirements for initiation.²⁸

²⁷ See Volume I of the Petitions, at 15-18, 21-35 and Exhibits I-4, I-11 through I-29; see also General Issues Supplement, at 14-16 and Exhibits I-Supp-10 and I-Supp-13.

²⁸ See AD Initiation Checklist, at Attachment III, Analysis of Allegations and Evidence of Material Injury and Causation for the Antidumping and Countervailing Duty Petitions Covering Wooden Cabinets and Vanities from the People's Republic of China (Attachment III).

Allegations of Sales at Less Than Fair Value

The following is a description of the allegation of sales at LTFV upon which Commerce based its decision to initiate an AD investigation of imports of wooden cabinets and vanities from China. The sources of data for the deductions and adjustments relating to U.S. price and normal value (NV) are discussed in greater detail in the AD Initiation Checklist.

Export Price

The petitioner based export price (EP) on an offer for sale for wooden cabinets produced in China and offered for sale to a customer in the United States.²⁹ The petitioner made deductions from U.S. price for foreign inland freight and foreign brokerage and handling charges.³⁰

²⁹ See Volume II of the Petition, at 3 and Exhibit II-2; see also AD Supplement, at 1 and Exhibit II-Supp-2.

³⁰ See Volume II of the Petition, at 5-7 and Exhibit II-3, Exhibit II-7, Exhibit II-12; see also AD Supplement, at 3 and Exhibit II-Supp-3, Exhibit II-Supp-4, Exhibit II-Supp-5.

Normal Value

With respect to China, Commerce considers China to be an NME country.³¹ In accordance with section 771(18)(C)(i) of the Act, any determination that a foreign country is an NME country shall remain in effect until revoked by Commerce. Therefore, we continue to treat China as an NME country for purposes of the initiation of this investigation. Accordingly, NV in China is appropriately based on FOPs valued in a surrogate market economy country, in accordance with section 773(c) of the Act.³²

³¹ See Antidumping Duty Investigation of Certain Aluminum Foil from the People's Republic of China: Affirmative Preliminary Determination of Sales at Less-Than-Fair Value and Postponement of Final Determination, 82 FR 50858, 50861 (November 2, 2017), and accompanying decision memorandum, China's Status as a Non-Market Economy, unchanged in Certain Aluminum Foil from the People's Republic of China: Final Determination of Sales at Less Than Fair Value, 83 FR 9282 (March 5, 2018).

³² See AD Initiation Checklist.

The Petition claims that Brazil is an appropriate surrogate country for China because it is a market economy that is at a level of economic development comparable to that of China and it is a significant producer of comparable merchandise.³³ The petitioner provided publicly available information from Brazil to value all FOPs. Based on the information provided by the petitioner, we determine that it is appropriate to use Brazil as a surrogate country for initiation purposes.

³³ Id. at 9-10 and Exhibit II-9, Exhibit II-10.

Interested parties will have the opportunity to submit comments regarding surrogate country selection and, pursuant to 19 CFR 351.301(c)(3)(i), will be provided an opportunity to submit publicly available information to value FOPs within 30 days before the scheduled date of the preliminary determination.

Factors of Production

Because information regarding the volume of inputs consumed by the Chinese producer/exporter was not reasonably available, the Petition used the product-specific consumption rates of a U.S. wooden cabinets and vanities producer as a surrogate to estimate the Chinese manufacturer's FOPs.³⁴ The Petition valued the estimated FOPs using surrogate values from Brazil, as noted above. ³⁵ The Petition used an average exchange rate to convert the data to U.S. dollars, where applicable. The petitioner calculated factory overhead, selling, general and administrative expenses, and profit based on the experience of a Brazilian producer of wooden cabinets.³⁶

³⁴ Id. at 2, 10-11 and Exhibit II-11, Exhibit II-12.

³⁵ Id. at 14-17.

³⁶ See Volume II of the Petition at 15-17 and Exhibit II-21 and Exhibit II-22.

Fair Value Comparisons

Based on the data provided by the Petition, there is reason to believe that imports of wooden cabinets and vanities from China are being, or are likely to be, sold in the United States at LTFV. Based on comparisons of EP to NV, in accordance with sections 772 and 773 of the Act, the estimated dumping margins for wooden cabinets and vanities from China range from 177.36 to 262.18 percent.³⁷

³⁷ See Second AD Supplement at Exhibit II-Supp-2-3; see also AD Initiation Checklist.

Initiation of LTFV Investigation

Based upon the examination of the Petition on wooden cabinets and vanities from China, we find that the Petition meets the requirements of section 732 of the Act. Therefore, we are initiating an AD investigation to determine whether imports of wooden cabinets and vanities from China are being, or are likely to be, sold in the United States at LTFV. In accordance with section 733(b)(1)(A) of the Act and 19 CFR 351.205(b)(1), unless postponed, we will make our preliminary determination no later than 140 days after the date of this initiation.

Respondent Selection

The petitioner named 727 companies in China as producers/exporters of wooden cabinets and vanities.³⁸ After considering our resources, Commerce has determined that we do not have sufficient administrative resources to issue quantity and value (Q&V) questionnaires to all 727 identified producers and exporters. Therefore, Commerce has determined to limit the number of Q&V questionnaires we will send out to exporters and producers identified in U.S. Customs and Border Protection (CBP) data for U.S. imports of wooden cabinets and vanities during the POI under the appropriate Harmonized Tariff Schedule of the United States numbers listed in the “Scope of the Investigation,” in the Appendix. Accordingly, Commerce will send Q&V questionnaires to the largest producers and exporters that are identified in the CBP data for which there is address information on the record.

³⁸ See Petition Volume I at Exhibit I-9; see also General Issues Supplement at Exhibit I-Supp-1.

On March 26, 2019, Commerce released CBP data on imports of wooden cabinets and vanities from China under APO to all parties with access to information protected by APO and indicated that interested parties wishing to comment on the CBP data must do so within three business days of the publication date of the notice of initiation of this investigation.³⁹ We further stated that we will not accept rebuttal comments.

³⁹ See Memorandum, “Less-Than-Fair-Value Investigation of Wooden Cabinets and Vanities from China: Release of U.S. Customs and Border Protection Data;” dated March 26, 2019.

In addition, Commerce will post the Q&V questionnaire along with filing instructions on the Enforcement and Compliance website at http://www.trade.gov/enforcement/news.asp. In accordance with our standard practice for respondent selection in AD cases involving NME countries, we intend to base respondent selection on the responses to the Q&V questionnaire that we receive.

Producers/exporters of wooden cabinets and vanities from China that do not receive Q&V questionnaires by mail may still submit a response to the Q&V questionnaire and can obtain a copy from the Enforcement & Compliance website. The Q&V response must be submitted by the relevant China exporters/producers no later than April 15, 2019. All Q&V responses must be filed electronically via ACCESS.

Separate Rates

In order to obtain separate-rate status in an NME investigation, exporters and producers must submit a separate-rate application.⁴⁰ The specific requirements for submitting a separate-rate application in the China investigation are outlined in detail in the application itself, which is available on Commerce's website at http://enforcement.trade.gov/nme/nme-sep-rate.html. The separate-rate application will be due 30 days after publication of this initiation notice.⁴¹ Exporters and producers who submit a separate-rate application and have been selected as mandatory respondents will be eligible for consideration for separate-rate status only if they respond to all parts of Commerce's AD questionnaire as mandatory respondents. Commerce requires that companies from China submit a response to both the Q&V questionnaire and the separate-rate application by the respective deadlines in order to receive consideration for separate-rate status. Companies not filing a timely Q&V response will not receive separate rate consideration.

⁴⁰ See Policy Bulletin 05.1: Separate-Rates Practice and Application of Combination Rates in Antidumping Investigation involving Non-Market Economy Countries (April 5, 2005), available at http://enforcement.trade.gov/policy/bull05-1.pdf (Policy Bulletin 05.1).

⁴¹ Although in past investigations this deadline was 60 days, consistent with 19 CFR 351.301(a), which states that “the Secretary may request any person to submit factual information at any time during a proceeding,” this deadline is now 30 days.

Use of Combination Rates

Commerce will calculate combination rates for certain respondents that are eligible for a separate rate in an NME investigation. The Separate Rates and Combination Rates Bulletin states:

{w}hile continuing the practice of assigning separate rates only to exporters, all separate rates that the Department will now assign in its NME Investigation will be specific to those producers that supplied the exporter during the period of investigation. Note, however, that one rate is calculated for the exporter and all of the producers which supplied subject merchandise to it during the period of investigation. This practice applies both to mandatory respondents receiving an individually calculated separate rate as well as the pool of non-investigated firms receiving the weighted-average of the individually calculated rates. This practice is referred to as the application of “combination rates” because such rates apply to specific combinations of exporters and one or more producers. The cash-deposit rate assigned to an exporter will apply only to merchandise both exported by the firm in question and produced by a firm that supplied the exporter during the period of investigation.⁴²

⁴² See Policy Bulletin 05.1 at 6 (emphasis added).

Distribution of Copies of the Petition

In accordance with section 732(b)(3)(A) of the Act and 19 CFR 351.202(f), a copy of the public version of the Petition has been provided to the government of China via ACCESS. Because of the particularly large number of producers/exporters identified in the Petition, Commerce considers the service of the public version of the Petition to the foreign producers/exporters satisfied by delivery of the public version to the government of China, consistent with 19 CFR 351.203(c)(2).

ITC Notification

We will notify the ITC of our initiation, as required by section 732(d) of the Act.

Preliminary Determinations by the ITC

The ITC will preliminarily determine, within 45 days after the date on which the Petition was filed, whether there is a reasonable indication that imports of wooden cabinets and vanities from China are materially injuring or threatening material injury to a U.S. industry.⁴³ A negative ITC determination will result in the investigation being terminated.⁴⁴ Otherwise, this investigation will proceed according to statutory and regulatory time limits.

⁴³ See section 733(a) of the Act.

⁴⁴ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Any party, when submitting factual information, must specify under which subsection of 19 CFR 351.102(b)(21) the information is being submitted ⁴⁵ and, if the information is submitted to rebut, clarify, or correct factual information already on the record, to provide an explanation identifying the information already on the record that the factual information seeks to rebut, clarify, or correct.⁴⁶ Time limits for the submission of factual information are addressed in 19 CFR 351.301, which provides specific time limits based on the type of factual information being submitted. Please review the regulations prior to submitting factual information in this investigation.

⁴⁵ See 19 CFR 351.301(b).

⁴⁶ See 19 CFR 351.301(b)(2).

Extensions of Time Limits

Parties may request an extension of time limits before the expiration of a time limit established under 19 CFR 351.301, or as otherwise specified by the Secretary. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in a letter or memorandum of the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.⁴⁷ Parties must use the certification formats provided in 19 CFR 351.303(g).⁴⁸ Commerce intends to reject factual submissions if the submitting party does not comply with the applicable certification requirements.

⁴⁷ See section 782(b) of the Act.

⁴⁸ See also Certification of Factual Information to Import Administration During Antidumping and Countervailing Duty Proceedings, 78 FR 42678 (July 17, 2013) (Final Rule). Answers to frequently asked questions regarding the Final Rule are available at http://enforcement.trade.gov/tlei/notices/factual_info_final_rule_FAQ_07172013.pdf.

Notification to Interested Parties

Interested parties must submit applications for disclosure under administrative protective order (APO) in accordance with 19 CFR 351.305. On January 22, 2008, Commerce published Antidumping and Countervailing Duty Proceedings: Documents Submission Procedures; APO Procedures, 73 FR 3634 (January 22, 2008). Parties wishing to participate in this investigation should ensure that they meet the requirements of these procedures (e.g., the filing of letters of appearance as discussed in 19 CFR 351.103(d)).

This notice is issued and published pursuant to sections 732(c)(2) and 777(i) of the Act, and 19 CFR 351.203(c).

Dated: March 28, 2019.
Gary Taverman,
Deputy Assistant Secretary for Antidumping and Countervailing Duty Operations, performing the non-exclusive functions and duties of the Assistant Secretary for Enforcement and Compliance.

Appendix

Scope of the Investigation

The merchandise subject to this investigation consists of wooden cabinets and vanities that are for permanent installation (including floor mounted, wall mounted, ceiling hung or by attachment of plumbing), and wooden components thereof. Wooden cabinets and vanities and wooden components are made substantially of wood products, including solid wood and engineered wood products (including those made from wood particles, fibers, or other wooden materials such as plywood, strand board, block board, particle board, or fiberboard), or bamboo. Wooden cabinets and vanities consist of a cabinet box (which typically includes a top, bottom, sides, back, base blockers, ends/end panels, stretcher rails, toe kicks, and/or shelves) and may or may not include a frame, door, drawers and/or shelves. Subject merchandise includes wooden cabinets and vanities with or without wood veneers, wood, paper or other overlays, or laminates, with or without non-wood components or trim such as metal, marble, glass, plastic, or other resins, whether or not surface finished or unfinished, and whether or not completed.

Wooden cabinets and vanities are covered by the investigation whether or not they are imported attached to, or in conjunction with, faucets, metal plumbing, sinks and/or sink bowls, or countertops. If wooden cabinets or vanities are imported attached to, or in conjunction with, such merchandise, only the wooden cabinet or vanity is covered by the scope.

Subject merchandise includes the following wooden component parts of cabinets and vanities: (1) Wooden cabinet and vanity frames (2) wooden cabinet and vanity boxes (which typically include a top, bottom, sides, back, base blockers, ends/end panels, stretcher rails, toe kicks, and/or shelves), (3) wooden cabinet or vanity doors, (4) wooden cabinet or vanity drawers and drawer components (which typically include sides, backs, bottoms, and faces), (5) back panels and end panels, (6) and desks, shelves, and tables that are attached to or incorporated in the subject merchandise.

Subject merchandise includes all unassembled, assembled and/or “ready to assemble” (RTA) wooden cabinets and vanities, also commonly known as “flat packs,” except to the extent such merchandise is already covered by the scope of antidumping and countervailing duty orders on Hardwood Plywood from the People's Republic of China. See Certain Hardwood Plywood Products from the People's Republic of China: Amended Final Determination of Sales at Less Than Fair Value, and Antidumping Duty Order, 83 FR 504 (January 4, 2018); Certain Hardwood Plywood Products from the People's Republic of China: Countervailing Duty Order, 83 FR 513 (January 4, 2018). RTA wooden cabinets and vanities are defined as cabinets or vanities packaged so that at the time of importation they may include: (1) Wooden components required to assemble a cabinet or vanity (including drawer faces and doors); and (2) parts (e.g., screws, washers, dowels, nails, handles, knobs, adhesive glues) required to assemble a cabinet or vanity. RTAs may enter the United States in one or in multiple packages.

Subject merchandise also includes wooden cabinets and vanities and in-scope components that have been further processed in a third country, including but not limited to one or more of the following: trimming, cutting, notching, punching, drilling, painting, staining, finishing, assembly, or any other processing that would not otherwise remove the merchandise from the scope of the investigation if performed in the country of manufacture of the in-scope product.

Excluded from the scope of this investigation, if entered separate from a wooden cabinet or vanity are:

(1) Aftermarket accessory items which may be added to or installed into an interior of a cabinet and which are not considered a structural or core component of a wooden cabinet or vanity. Aftermarket accessory items may be made of wood, metal, plastic, composite material, or a combination thereof that can be inserted into a cabinet and which are utilized in the function of organization/accessibility on the interior of a cabinet; and include:

• Inserts or dividers which are placed into drawer boxes with the purpose of organizing or dividing the internal portion of the drawer into multiple areas for the purpose of containing smaller items such as cutlery, utensils, bathroom essentials, etc.

• Round or oblong inserts that rotate internally in a cabinet for the purpose of accessibility to foodstuffs, dishware, general supplies, etc.

(2) Solid wooden accessories including corbels and rosettes, which serve the primary purpose of decoration and personalization.

(3) Non-wooden cabinet hardware components including metal hinges, brackets, catches, locks, drawer slides, fasteners (nails, screws, tacks, staples), handles, and knobs.

Also excluded from the scope of this investigation are:

(1) All products covered by the scope of the antidumping duty order on Wooden Bedroom Furniture from the People's Republic of China. See Notice of Amended Final Determination of Sales at Less Than Fair Value and Antidumping Duty Order: Wooden Bedroom Furniture From the People's Republic of China, 70 FR 329 (January 4, 2005).

(2) All products covered by the scope of the antidumping and countervailing duty orders on Hardwood Plywood from the People's Republic of China. See Certain Hardwood Plywood Products from the People's Republic of China: Amended Final Determination of Sales at Less Than Fair Value, and Antidumping Duty Order, 83 FR 504 (January 4, 2018); Certain Hardwood Plywood Products from the People's Republic of China: Countervailing Duty Order, 83 FR. 513 (January 4, 2018).

Imports of subject merchandise are classified under Harmonized Tariff Schedule of the United States (HTSUS) statistical numbers 9403.40.9060 and 9403.60.8081. The subject component parts of wooden cabinets and vanities may be entered into the United States under HTSUS statistical number 9403.90.7080. Although the HTSUS subheadings are provided for convenience and customs purposes, the written description of the scope of this investigation is dispositive.

[FR Doc. 2019-06388 Filed 4-1-19; 8:45 am]

BILLING CODE 3510-DS-P